DEPARTMENT OF THE TREASURY

Customs Service

19 CFR Parts 122 and 123

RIN 1515-AC73

Private Aircraft Programs: Establishment of the General Aviation Telephonic Entry (GATE) Program and Revisions to the Overflight Program

AGENCY: Customs Service, Treasury.

ACTION: Notice of withdrawal of proposed rulemaking.

SUMMARY: This document informs the public that Customs has decided to withdraw its proposal to both establish a regulatory framework for the General Aviation Telephonic Entry (GATE) Program and revise the Overflight Program regulations. The withdrawal of the proposed rulemaking is based on Customs reconsideration of all aircraft entry procedures since the events of September 11, 2001.

EFFECTIVE DATE: December 2, 2002.

FOR FURTHER INFORMATION CONTACT: Elizabeth Tritt, Passenger Processing, Office of Field Operations; telephone (202) 927-4434.

SUPPLEMENTARY INFORMATION:

Background

On August 3, 2001, Customs published a document in the Federal Register (66 FR 40649) proposing to amend the Customs Regulations pertaining to private aircraft programs. The amendments proposed to establish the General Aviation Telephonic Entry (GATE) Program—a voluntary program that was designed to facilitate Customs processing of certain pre-qualified frequent travelers on pre-registered general aviation aircraft arriving in the United States directly from Canada.

The amendments also proposed to revise certain aspects of the Overflight Program—a voluntary program that exempts certain private aircraft arriving in the continental United States via certain areas south of the United States from the special landing requirement applicable to such aircraft. The proposed revisions of the Overflight Program would have modified the application process to standardize and streamline the information required and provide for centralized processing of requests for overflight privileges.

Comments on the proposed amendment to the Customs Regulations were solicited for 60 days.

Six comments were received in response to this proposal. All of the comments were favorable to the private aircraft programs, but certain clarifications were requested.

The GATE Program had been operated on a test basis and allowed participating aircraft to report its arrival information to Customs telephonically and exempted to some degree participating frequent travelers in compliance with the program's requirements from the general Customs requirements concerning entry into the United States. On September 11, 2001, the GATE Program was indefinitely suspended following the terrorist attacks on the United States. On August 3, 2002, the program was discontinued. Consistent with the discontinuation of the GATE test, Customs has determined not to proceed with establishing the program in the regulations.

Regarding the proposed revisions to the Overflight Program, Customs has carefully considered the comments received and further reviewed the matter. Taking into consideration the enhanced security concerns following the events of September 11, 2001, Customs has concluded that the proposed amendments concerning the Overflight Program must be further revised concerning advance notice of arrival issues. Customs anticipates issuing a new proposal in the near future regarding changes to the Overflight Program. In accordance with the above discussion, Customs is withdrawing the proposal it published August 3, 2001.

Robert C. Bonner,
Commissioner of Customs.
Approved: November 25, 2002.
Timothy E. Skud,
Deputy Assistant Secretary of the Treasury.

[FR Doc. 02-30357 Filed 11-29-02; 8:45 am]

BILLING CODE 4820-02-P